ENVIRONMENTAL PROTECTION AGENCY

[FRL-6925-6]

Science Advisory Board; Notification of Six Public Advisory Committee Meetings; Cancellation of a Previously Announced Advisory Committee Meeting

SUMMARY: Pursuant to the Federal Advisory Committee Act, Public Law 92-463, notice is hereby given that the EPA Science Advisory Board's (SAB) Environmental Engineering Committee will conduct six public teleconference meetings on Wednesday afternoons in 2001. The first conference call will be held from 3-5 Eastern time on January 10, 2001. The remaining conference calls will be held from 1-3 p.m. Eastern Time on March 7, May 2, July 11, September 5, and November 7.

The conference call meetings will be coordinated through a conference call connection in room 6450C Ariel Rios North (6th Floor), U.S. Environmental Protection Agency, 1200 Pennsylvania Avenue NW., Washington, DC. The public is strongly encouraged to attend the meeting through a telephonic link, but may attend physically if arrangements are made in advance with the SAB staff. In both cases, arrangements should be made with the SAB staff by noon the Wednesday before the meeting. Staff may not be able to accommodate the presence of people who appear in person without advance notice. Additional instructions about how to participate in the conference call can be obtained by calling Ms. Mary Winston, Management Assistant, at (202) 564-4538, and via e-mail at: winston.mary@epa.gov.

Purpose of the Meetings: These conference calls have been scheduled to facilitate the routine work of the Committee throughout the year.

The purposes of the January 10, 2001 conference call meeting are:

(a) to discuss a potential Commentary on industrial ecology or related topics

(b) to undertake further planning on the consultation on research for environmental systems management

(c) to discuss potential activities related to contaminated sediments

(d) if time allows. to further explore ideas about subsequent overview briefings on EPA programs by media, or interagency briefings by media.

The purposes of the conference call on March 7, 2001 are:

(a) To consider a draft Risk Reduction Options Selection report

(b) To hear status reports on the planning for FY2001 EEC activities

(c) To learn the status of the Natural Attenuation Research Subcommittee report and the Commentary on Measures of Environmental Technology Performance

(d) To discuss report related items, such as the inclusion of one-paragraph biographies for contributors to commentaries and reports and the preparation of brief summaries of reports for distribution to journals and newsletters

The other four conference calls will be similarly used to further the Committee's various activities and approve reports. The agendas for these calls will be announced in subsequent Federal Register Notices or may be obtained closer to the meetings from the Designated Federal Office (DFO) or Management Assistant.

Availability of the written materials in advance of the conference call meetings: Any written materials prepared in advance of the conference calls will be made available to the public by E-mail before the meeting. For e-mail copies, please contact Ms. Kathleen White Conway, Designated Federal Officer, at conway.kathleen@epa.gov. A limited number of paper copies will be available from Ms. Mary Winston at (202) 564-4538, and via e-mail at: winston.mary@epa.gov

FOR FURTHER INFORMATION: Any member of the public wishing further information concerning the conference call meetings or wishing to submit brief oral comments must contact Ms. Kathleen White Conway, Designated Federal Officer, Science Advisory Board (1400A), U.S. Environmental Protection Agency, Ariel Rios Building, 1200 Pennsylvania Avenue, NW, Washington, DC 20460; telephone (202) 564-4559; FAX (202) 501-0582; or via e-mail at conway.katheen@epa.gov. Requests for oral comments must be in writing (e-mail, fax or mail) and received by Ms. Conway no later than noon Eastern Time one week prior to the meeting.

Providing Oral or Written Comments at SAB Meetings

It is the policy of the Science Advisory Board to accept written public comments of any length, and to accommodate oral public comments whenever possible. The Science Advisory Board expects that public statements presented at its meetings will not be repetitive of previously submitted oral or written statements. Oral Comments: For teleconference meetings, opportunities for oral comment will usually be limited to no more than three minutes per speaker and no more than fifteen minutes total. Deadlines for getting on the public speaker list for a meeting are given above. Speakers should both e-mail their comments to the DFO in MSWord and WordPerfect formats (suitable for IBM-PC/Windows 95/98) and provide 5 paper copies of their comments and presentation slides for distribution to the reviewers and public at the meeting. Written Comments: Although the SAB accepts written comments until the date of the meeting (unless otherwise stated), because this is a conference call meeting, any comments to be mailed to the Subcommittee in advance of the meeting should be received in the SAB Staff Office by noon at least a week before the meeting. E-mailed comments will be accepted until the day before the meeting, although earlier submission is encouraged; these should be sent in both MSWord and WordPerfect comments (suitable for IBM-PC/Windows 95/98).

General Information

Additional information concerning the Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access

Individuals requiring special accommodation at this meeting, including wheelchair access to the conference room, should contact Ms. Winston at least five business days prior to the meeting so that appropriate arrangements can be made.

Cancellation of a Previously Announced Advisory Committee Meeting

The January 11-12, 2001 face-to-face meeting, and February 28, 2000 teleconference meeting of the EPA Science Advisory Board's Drinking Water Committee (DWC), as advertised in the December 20, 2000 Federal Register (65 FR 79831) have been canceled. The issue under review by the DWC at these meetings has been delayed. The meetings will be rescheduled at a later date.

Dated: December 21, 2000.
Donald G. Barnes,
Staff Director, Science Advisory Board.

[FR Doc. 00-33305 Filed 12-28-00; 8:45 am]

BILLING CODE 6560-50-P